DEPARTMENT OF JUSTICE

Office of Justice Programs; Agency Information Collection Activities: Proposed Collection; Comments Requested

ACTION: 60-Day Notice of Information Collection Under Review: Supplemental Victimization Survey (SVS).

The Department of Justice (DOJ), Office of Justice Programs (OJP), Bureau of Justice Statistics (BJS) has submitted the following information collection request to the Office of Management and Budget (OMB) for review and approval in accordance with the Paperwork Reduction Act of 1995. The proposed information collection is published to obtain comments from the public and affected agencies. Comments are encouraged and will be accepted for 60 days until July 8, 2005.

If you have comments, especially on the estimated public burden or associated response time, suggestions, or need a copy of the proposed information collection instrument with instructions or additional information, please contact: Katrina Baum, Statistician, Bureau of Justice Statistics, Office of Justice Programs, Department of Justice, 810 7th Street NW., Washington, DC 20531, or facsimile (202) 307-1463.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information:

(1) Type of information collection: New collection.

(2) Title of the Form/Collection: Supplemental Victimization Survey (SVS).

(3) Agency form number, if any, and the applicable component of the department sponsoring the collection: SVS-1. Department of Justice, Office of Justice Programs, Bureau of Justice Statistics.

(4) Affected public who will be asked or required to respond, as well as a brief abstract: Primary: Individuals or Households. Persons 18 years or older in 658 Primary Sampling Units (PSUs) in the United States. The Supplemental Victimization Survey (SVS) to the National Crime Victimization Survey collects, analyzes, publishes, and disseminates statistics on the nature and consequences of a series of harassing or unwanted contacts or behaviors directed toward respondents that made them feel fearful, concerned, angry, or annoyed, commonly known as “stalking”.

(5) An estimate of the total number of respondents and the amount of time estimated for an average respondent to respond/reply: Approximately 86,850 persons 18 years of age or older will complete an SVS interview. The majority of respondents, approximately 85,982, will be administered only the screening portion of the SVS which are designed to filter out those people who have not been victims of repetitive harassing or unwanted contacts and therefore are not eligible to continue with the remainder of the supplement questions. We estimate the average length of the SVS interview for these individuals will be three minutes. The complement of this group of respondents is those who had such contacts. Due to the rarity of this type of crime, we expect only about 1 percent or 868 of the respondents to report being a victim of this type of behavior within the 12 months preceding the interview. We estimate each of these interviews will take 0.167 hours (10 minutes) to complete.

(6) An estimate of the total public burden (in hours) associated with the collection: The total respondent burden is approximately 4,444 hours.

If additional information is required contact: Brenda E. Dyer, Department Clearance Officer, United States Department of Justice, Justice Management Division, Policy and Planning Staff, United States Department of Justice, Patrick Henry Building, Suite 1600, 601 D Street NW., Washington, DC 20530.

Dated: May 4, 2005.
Brenda E. Dyer,
Department Clearance Officer, United States Department of Justice.

[FR Doc. 05-9180 Filed 5-6-05; 8:45 am]

BILLING CODE 4410-18-P